DEPARTMENT OF TRANSPORTATION

Federal Aviation Administration

14 CFR Part 39

[Docket No. 2001-NM-182-AD]

RIN 2120-AA64

Airworthiness Directives; Boeing Model 757-200 and -300 Series Airplanes

AGENCY: Federal Aviation Administration, DOT.

ACTION: Notice of proposed rulemaking (NPRM).

SUMMARY: This document proposes the adoption of a new airworthiness directive (AD) that is applicable to certain Boeing Model 757-200 and -300 series airplanes. This proposal would require inspection of the guide arm assembly on passenger door number 1 for a part mark to determine whether the guide arm assembly contains an adjuster rod which was incorrectly manufactured and replacement of any such adjuster rod. This action is necessary to prevent failure of the adjuster rod in the passenger door guide arm assembly, which could prevent the door from opening or closing during normal or emergency operations, resulting in inability to evacuate the crew and passengers in an emergency. This action is intended to address the identified unsafe condition.

DATES: Comments must be received by March 25, 2004.

ADDRESSES: Submit comments in triplicate to the Federal Aviation Administration (FAA), Transport Airplane Directorate, ANM-114, Attention: Rules Docket No. 2001-NM-182-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-182-AD” in the subject line and need not be submitted in triplicate. Comments sent via the Internet as attached electronic files must be formatted in Microsoft Word 97 or 2000 or ASCII text.

The service information referenced in the proposed rule may be obtained from Boeing Commercial Airplanes, P.O. Box 3707, Seattle, Washington 98124-2207. This information may be examined at the FAA, Transport Airplane Directorate, 1601 Lind Avenue, SW., Renton, Washington.

FOR FURTHER INFORMATION CONTACT: David Crotty, Aerospace Engineer, Cabin Safety and Environmental Systems Branch, ANM-150S, FAA, Seattle Aircraft Certification Office, 1601 Lind Avenue, SW., Renton, Washington 98055-4056; telephone (425) 917-6422; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-182-AD.” The postcard will be date stamped and returned to the commenter.

Availability of NPRMs

Any person may obtain a copy of this NPRM by submitting a request to the FAA, Transport Airplane Directorate, ANM-114, Attention: Rules Docket No. 2001-NM-182-AD, 1601 Lind Avenue, SW., Renton, Washington 98055-4056.

Discussion

The FAA has received reports that certain adjuster rods in passenger door guide arm assemblies of the number 1 left passenger doors on certain Boeing Model 757-200 and 757-300 series airplanes were improperly manufactured, resulting in adjuster rods which are not as strong as correctly manufactured adjuster rods. This condition, if not corrected, could result in failure of the adjuster rod in the passenger door guide arm assembly, which could prevent the door from opening or closing during normal or emergency operations, resulting in inability to evacuate the crew and passengers in an emergency.

Explanation of Relevant Service Information

The FAA has reviewed and approved Boeing Special Attention Service Bulletin 757-52-0077, dated February 15, 2001, (for Boeing Model 757-200 series airplanes) and Boeing Special Attention Service Bulletin 757-52-0078, dated February 15, 2001 (for Boeing Model 757-300 series airplanes). The service bulletins describe procedures for inspecting the guide arm assembly of the passenger door for a part mark and replacing the improperly manufactured adjuster rods in the guide arm assembly with new adjustor rods. The service bulletins also describe procedures for testing the hardness of an adjuster rod when there is no part mark on the guide arm assembly. Accomplishment of the actions specified in the service bulletins is intended to adequately address the identified unsafe condition.

Explanation of Requirements of Proposed Rule

Since an unsafe condition has been identified that is likely to exist or develop on other products of these same type designs, the proposed AD would require accomplishment of the actions specified in the service bulletins described previously.

Cost Impact

There are approximately 9 airplanes of the affected design in the worldwide fleet. The FAA estimates that 9 airplanes of U.S. registry would be affected by this proposed AD, that it would take approximately 1 work hour per airplane to accomplish the proposed inspection, and that the average labor rate is $65 per work hour. Based on these figures, the cost impact of the proposed inspection on U.S. operators is estimated to be $585, or $65 per airplane.

The FAA estimates that it would take approximately 2 work hours per airplane to accomplish the proposed replacement. Required parts would cost approximately $478 per airplane. Based on that figure, the cost impact of the proposed replacement on U.S. operators is estimated to be a maximum of $5,472, or $608 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

The manufacturer would cover the cost of replacement parts and of labor associated with this proposed AD, subject to warranty conditions. As a result, the costs attributable to the proposed AD may be less than stated above.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2001-NM-182-AD.

Applicability: Model 757-200 series airplanes, as listed in Boeing Special Attention Service Bulletin 757-52-0077, dated February 15, 2001, and Model 757-300 series airplanes, as listed in Boeing Special Attention Service Bulletin 757-52-0078, dated February 15, 2001; certificated in any category.

Compliance: Required as indicated, unless accomplished previously.

To prevent failure of the adjuster rod in the passenger door guide arm assembly, which could prevent the door from opening or closing during normal or emergency operations, resulting in inability to evacuate the crew and passengers in an emergency, accomplish the following:

Service Bulletin References

(a) The term “service bulletin,” as used in this AD, means the Accomplishment Instructions of the following service bulletins, as applicable:

(1) For Model 757-200 airplanes: Boeing Special Attention Service Bulletin 757-52-0077, dated February 15, 2001; and

(2) For Model 757-300 airplanes: Boeing Special Attention Service Bulletin 757-52-0078, dated February 15, 2001.

Inspection of Part Mark

(b) Within 18 months of the effective date of this AD: Inspect the part mark on the guide arm assembly of the number 1 left passenger door, in accordance with the applicable service bulletin.

Follow-on Actions

(c) If the inspection of the part mark required by paragraph (b) of this AD reveals the name of a supplier, prior to further flight, accomplish the action specified in paragraph (c)(1) or (c)(2) of this AD, as applicable.

(1) If the part mark of supplier CDSL is found on the guide arm assembly, then replace the adjuster rod of the guide arm assembly per Figure 2 of the applicable service bulletin.

(2) If the part mark of a supplier other than CDSL is found on the guide arm assembly, then the adjuster rod is satisfactory, and no further action is required by this paragraph.

(d) If no part mark is found during the inspection required by paragraph (b) of this AD, prior to further flight accomplish the action specified in either paragraph (d)(1) or (d)(2) of this AD.

(1) Replace the adjuster rod of the guide arm assembly per Figure 2 of the applicable service bulletin.

(2) Test the hardness of the adjuster rod of the guide arm assembly per Figure 3 of the applicable service bulletin.

(i) If the hardness of the adjuster rod is less than 44 HRC (Rockwell C Hardness scale), then install a new adjuster rod per Figure 2 of the applicable service bulletin.

(ii) If the hardness of the adjuster rod is greater than 44 HRC, then the adjuster rod is satisfactory, and no further action is required by this paragraph.

Parts Installation

(e) As of the effective date of this AD, no person may install on any airplane an adjuster rod in any passenger door guide arm assembly which has either no part mark on the guide arm assembly or has the part mark of supplier CDSL.

Alternative Methods of Compliance

(f) In accordance with 14 CFR 39.19, the Manager, Seattle Aircraft Certification Office (ACO), FAA, is authorized to approve alternative methods of compliance for this AD.

Issued in Renton, Washington, on February 3, 2004.
Ali Bahrami,
Acting Manager, Transport Airplane Directorate, Aircraft Certification Service.

[FR Doc. 04-2680 Filed 2-6-04; 8:45 am]

BILLING CODE 4910-13-P